DEPARTMENT OF DEFENSE

GENERAL SERVICES ADMINISTRATION

NATIONAL AERONAUTICS AND SPACE ADMINISTRATION

[OMB Control No. 9000-0048; Docket No. 2018-0003; Sequence No. 9]

Information Collection; Authorized Negotiators and Integrity of Unit Prices

AGENCY: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a renewal concerning authorized negotiators and integrity of unit prices.

DATES: Submit comments on or before November 5, 2018.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0048, Authorized Negotiators and Integrity of Unit Prices.

Instructions: All items submitted must cite Information Collection 9000-0048, Authorized Negotiators and Integrity of Unit Prices. Comments received in response to this docket will be made available for public inspection and posted without change, including any personal information, at http://www.regulations.gov.

Comments received generally will be posted without change to http://www.regulations.gov, including any personal and/or business confidential information provided. To confirm receipt of your comment(s), please check www.regulations.gov, approximately two to three days after submission to verify posting (except allow 30 days for posting of comments submitted by mail). This information collection is pending at the FAR Council. The Council will submit it to OMB within 60 days from the date of this notice.

FOR FURTHER INFORMATION CONTACT: Mr. Michael O. Jackson, Procurement Analyst, Office of Governmentwide Acquisition Policy, GSA, 202-208-4949, or via email to michaelo.jackson@gsa.gov.

SUPPLEMENTARY INFORMATION:

A. Overview of Information Collection

Description of the Information Collection

1. Type of Information Collection: Revision/Renewal of a currently approved collection.

2. Title of the Collection: Authorized Negotiators and Integrity of Unit Prices.

3. Agency form number, if any: None.

Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

This information collection requirement, OMB Control No. 9000-0048, currently titled “Authorized Negotiators,” is proposed to be retitled “Authorized Negotiators and Integrity of Unit Prices,” due to consolidation with currently approved information collection requirement OMB Control No. 9000-0080, Integrity of Unit Prices.

This information collection requirement pertains to information that offerors and contractors must submit in response to the requirements in the Federal Acquisition Regulation (FAR) as follows:

1. Authorized Negotiators—FAR 52.215-1(c)(2)(iv). Firms offering supplies or services to the Government under negotiated solicitations must provide the names, titles, and telephone and facsimile numbers (and electronic addresses if available) of authorized negotiators to assure that discussions are held with authorized individuals.

2. Integrity of Unit Prices—FAR 52.215-14. This clause, Integrity of Unit Prices, requires offerors and contractors under Federal contracts awarded without adequate price competition to identify those supplies which they will not manufacture or to which they will not contribute significant value. This requirement does not apply to: Contracts below the simplified acquisition threshold, construction and architect-engineering services, utility services, service contracts where supplies are not required, commercial items, and contracts for petroleum products.

C. Annual Reporting Burden

1. Authorized Negotiators—FAR 52.215-1(c)(2)(iv)

Respondents: 15,524.

Responses per Respondent: 8.

Total Annual Responses: 124,192.

Hours per Response: 0.017.

Total Burden Hours: 2,111.

2. Integrity of Unit Prices—FAR 52.215-14

Respondents: 4,292.

Responses per Respondent: 10.

Total Annual Responses: 42,920.

Hours per Response: 1.

Total Burden Hours: 42,920.

3. Summary

Respondents: 19,816.

Total Annual Responses: 167,112.

Total Burden Hours: 45,031.

Affected Public: Businesses or other for-profit and not-for-profit institutions.

Frequency: Annually.

Obtaining Copies: Requesters may obtain a copy of the information collection documents from the General Services Administration, Regulatory Secretariat Division (MVCB), 1800 F Street NW, Washington, DC 20405, telephone 202-501-4755. Please cite OMB Control No. 9000-0048, Authorized Negotiators and Integrity of Unit Prices, in all correspondence.

William Clark,
Director, Office of Governmentwide Acquisition Policy, Office of Acquisition Policy, Office of Governmentwide Policy.

[FR Doc. 2018-19128 Filed 9-4-18; 8:45 am]

BILLING CODE 6820-EP-P